DEPARTMENT OF HEALTH AND HUMAN SERVICES

Centers for Disease Control and Prevention

[60 Day-07-0020]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Coal Workers' X-ray Surveillance Program (CWXSP) OMB # 0920-0020—Extension—The National Institute for Occupational Safety and Health (NIOSH), Centers for Disease Control and Prevention (CDC).

Background and Brief Description

The CWXSP is a federally mandated program under the Federal Mine Safety and Health Act of 1977, Public Law 95-164. The Act provides the regulatory authority for the administration of the CWXSP, a surveillance program to protect the health and safety of underground coal miners. This Program requires the gathering of demographic and logistical information from coal mine operators, participating miners, participating x-ray facilities, and participating physicians. The Appalachian Laboratory for Occupational Safety and Health (ALOSH), located in Morgantown, WV, is charged with administration of this Program. Over the past two years, participation in the CWXSP has increased, which is reflected in this submission for renewal. Based on an average of 5,000 x-rays coming into the Program per year (each x-ray receives two readings), and using the average hourly wage rates taken from the Bureau of Labor Statistics, National Occupational Employment and Wage Estimates, the total annualized burden hours is 2,329. Physicians (B Readers) will fill out forms regarding their interpretations of the x-rays. Based on prior practice it takes the physician approximately 3 minutes per form. Physicians taking the B Reader Examination are asked to complete a registration form which takes approximately 10 minutes to complete. There are approximately 300 physicians each year taking the certification exam.

Miners participating in the CWXSP must fill out the Miner Identification Document which requires approximately 20 minutes. There are about 5,000 miners participating in the CWXSP Program. Mine operators are required to file a Mine x-ray Plan with NIOSH approximately every 3 years. It takes the mine operator approximately 30 minutes to complete this form. Approximately 200 mine operators have x-ray plans that are due for renewal each year. An x-ray facility that applies to be a NIOSH-approved facility for providing miners x-rays must complete an approval packet. The forms associated with this approval process require approximately 30 minutes for completion. There are approximately 25 x-ray facilities each year seeking approval into the CWXSP Program. Overall, there will be no costs to study participants.

Estimates of Annualized Burden Hours
Respondents | Number of respondents | Number of responses/ respondent | Average burden/response (in hrs.) | Total burden (in hrs.)
Physicians/interpretations | 10,000 | 1 | 3/60 | 500
Physicians/certification | 300 | 1 | 10/60 | 50
Miners | 5000 | 1 | 20/60 | 1,666
Mine operators | 200 | 1 | 30/60 | 100
X-ray facilities | 25 | 1 | 30/60 | 13
Total |  |  |  | 2,329

Dated: July 27, 2007.
Maryam I. Daneshvar,
Acting Reports Clearance Officer, Centers for Disease Control and Prevention.

[FR Doc. E7-15027 Filed 8-1-07; 8:45 am]

BILLING CODE 4163-18-P